DEPARTMENT OF LABOR

Employment and Training Administration

[TA-W-55,590]

New DHC, Southwest Harbor, ME; Notice of Termination of Investigation

Pursuant to section 221 of the Trade Act of 1974, as amended, an investigation was initiated on September 13, 2004 in response to a worker petition filed by a company official on behalf of workers of New DHC, Southwest Harbor, Maine.

The petition regarding the investigation has been deemed invalid. The petitioner is not an official of New DHC. Consequently, further investigation would serve no purpose, and the investigation has been terminated.

Signed at Washington, DC, this 21st day of October 2004.
Linda G. Poole,
Certifying Officer, Division of Trade Adjustment Assistance.

[FR Doc. E4-3137 Filed 11-10-04; 8:45 am]

BILLING CODE 4510-30-P